CONSUMER PRODUCT SAFETY COMMISSION

16 CFR Part 1215

Safety Standard for Infant Bath Seats; Correction

AGENCY: Consumer Product Safety Commission.

ACTION: Final rule; correction.

SUMMARY: The United States Consumer Product Safety Commission (“CPSC” or “Commission”) is correcting a final rule that appeared in the Federal Register of June 4, 2010 (75 FR 31691). The document established a standard for infant bath seats by incorporating by reference ASTM F 1967-08a with certain changes. The Commission is correcting an error that left in an introductory phrase in one provision concerning the stability requirements that should have been omitted from the standard.

DATES: Effective on December 6, 2010.

FOR FURTHER INFORMATION CONTACT: Carolyn Manley, Office of Compliance and Field Operations, Consumer Product Safety Commission, 4330 East West Highway, Bethesda, MD 20814; telephone (301) 504-7607; cmanley@cpsc.gov.

SUPPLEMENTARY INFORMATION: The Commission published in the Federal Register of June 4, 2010 (75 FR 31691) a final rule establishing a standard for infant bath seats by incorporating by reference ASTM F 1967-08. An introductory phrase in the stability performance requirements in the ASTM standard should have been removed to make the provision consistent with the Commission's definition of “bath seat.” The preamble to the final rule stated: “the final rule removes the beginning phrase in section 6.1: `for bath seats which provide support for an occupant's back and support for the sides or front of the occupant or both.' Given the definition of bath seat in the final rule, this phrase is redundant, and the final rule, therefore eliminates it.” 75 FR 31696. However, the text of the standard did not remove the introductory phrase. This notice corrects that error by restating section 6.1 of ASTM F 1967-08a without the introductory phrase, and adding at the end the language the Commission is adding to this section of the ASTM standard.

In FR Doc. 2010-13073 appearing on page 31691 in the Federal Register of Friday, June 4, 2010, the following correction is made:

§ 1215.2 [Corrected]

1. On page 31698, in the second column, in § 1215.2 Requirements for infant bath seats, paragraph (b)(2) is corrected to read, “In addition to section 6.1 of ASTM F 1967-08a, comply with the following:

(i) 6.1 Stability—* * * If any time during the application of force, the seat is no longer in the initial `intended use position' and is tilted at an angle of 12 degrees or more from its initial starting position, it shall be considered a failure.”

Should be corrected to read, “Instead of section 6.1 of ASTM F 1967-08a, comply with the following:

(i) 6.1 Stability—The geometry and construction of the product shall not allow for any parts of the product to become separated from it, shall not sustain permanent damage, and shall not allow the product to tip over after being tested in accordance with 7.4. In addition, if any attachment point disengages from (is no longer in contact with) the test platform and then fails to return to its manufacturer's intended use position after being tested in accordance with 7.4, it fails the requirement. This test shall be conducted after the Mechanisms Durability test in 7.1.3. If any time during the application of force, the seat is no longer in the initial `intended use position' and is tilted at an angle of 12 degrees or more from its initial starting position, it shall be considered a failure.”

Dated: August 13, 2010.
Todd Stevenson,
Secretary, U.S. Consumer Product Safety Commission.

[FR Doc. 2010-20595 Filed 8-18-10; 8:45 am]

BILLING CODE 6355-01-P